DEPARTMENT OF COMMERCE

National Oceanic and Atmospheric Administration

[RTID 0648-XR085]

Endangered and Threatened Species; Take of Anadromous Fish

AGENCY: National Marine Fisheries Service (NMFS), National Oceanic and Atmospheric Administration (NOAA), Commerce.

ACTION: Notice; availability of a Hatchery and Genetic Management Plan (HGMP) for public comment.

SUMMARY: Notice is hereby given that the Washington Department of Fish and Wildlife (WDFW) and Public Utility District No. 1 of Douglas County (Douglas PUD) have provided a HGMP pursuant to the protective regulations promulgated for Pacific salmon and steelhead under the Endangered Species Act (ESA). The HGMP describes the release of one million summer Chinook salmon at the Wells Hatchery. This document serves to notify the public of the availability of the HGMP for comment prior to a decision by NMFS on whether to approve the proposed hatchery program.

DATES: Comments must be received at the appropriate address (see ADDRESSES) no later than 5 p.m. P.S.T. on February 6, 2020. Comments received after this date may not be considered.

ADDRESSES: Written responses to the addendum should be addressed to the NMFS Sustainable Fisheries Division, 1201 NE Lloyd Blvd., Suite 1100, Portland, OR 97232. Comments may be submitted by email. The mailbox address for providing email comments is: Hatcheries.Public.Comment@noaa.gov. Include in the subject line of the email comment the following identifier: Comments on Wells Summer Chinook Hatchery Program.

FOR FURTHER INFORMATION CONTACT: Natasha Preston at (503) 231-2178 or by email at natasha.preston@noaa.gov

SUPPLEMENTARY INFORMATION:

ESA-Listed Species Covered in This Notice

• Upper Columbia River Spring-run Chinook (Oncorhynchus tshawytscha): Endangered, naturally produced and artificially propagated

• Upper Columbia River Steelhead (O. mykiss): Threatened, naturally produced and artificially propagated

Background

The HGMP submitted by WDFW and Douglas PUD describes the release of one million subyearling summer Chinook salmon at the Wells Hatchery. The HGMP was submitted to NMFS for review under ESA Limit 5 of the 4(d) Rule. Douglas PUD's existing production of summer Chinook includes 320,000 yearlings and 484,000 subyearling Chinook. These two programs are implemented under the terms and conditions of ESA Section 10(a)(1)(B) Permit No. 23193. The HGMP describes broodstock collection, incubation, rearing, release, and monitoring and evaluation.

This increase in summer Chinook salmon production is proposed to support Washington State's Southern Resident Orca Task Force recommendation to increase the abundance of Chinook salmon in marine waters of Washington State.

Prior to approving an HGMP under limit 5 of the 4(d) Rule, NMFS must publish notification announcing the availability of the HGMP for public review and comment.

Authority: 16 U.S.C. 1531 et seq.; 16 U.S.C. 742a et seq.

Dated: December 31, 2019.
Angela Somma,
Chief, Endangered Species Division, Office of Protected Resources, National Marine Fisheries Service.

[FR Doc. 2019-28538 Filed 1-6-20; 8:45 am]

BILLING CODE 3510-22-P